DEPARTMENT OF DEFENSE

Department of the Army, Corps of Engineers

Withdrawal of Preparation of Draft Environmental Impact Statement for the Anacostia River and Tributaries, District of Columbia and Maryland, Northwest Branch Watershed, Montgomery County, Maryland, Draft Ecosystem Restoration Report and Integrated Environmental Assessment

AGENCY: U.S. Army Corps of Engineers, DoD.

ACTION: Notice of withdrawal.

SUMMARY: The U.S. Army Corps of Engineers, Baltimore District, is withdrawing its intent to prepare a Draft Environmental Impact Statement (DEIS) for environmental restoration in the Northwest Branch watershed. Montgomery County, Maryland. The Corps' environmental analyses have not identified any significant impacts associated with the proposed action, therefore, intent to prepare a DEIS is hereby terminated. The Corps is preparing a draft Environmental Assessment (EA) for the proposed environmental restoration. The draft EA will evaluate environmental effects of restoring riverine, wetland, and riparian habitat at eleven sites in the Northwest Branch watershed. Montgomery County and the Maryland-National Capital Park and Planning Commission are the cost-sharing partners and are participating in the feasibility study and draft EA development. The goal of this project is to provide site-specific restoration measures to enhance, preserve, and restore portions of the watershed that have been degraded by urban development pressures. Formulation of the restoration measures focuses on examining existing conditions and determining the feasibility of restoring portions of degraded ecosystem structure, function, and dynamic processes to a less degraded condition.

FOR FURTHER INFORMATION CONTACT: Questions about the termination of the DEIS can be addressed to Ms. Nancy Jedziniak, Study Manager, Baltimore District, U.S. Army Corps of Engineers, ATTN: CENAB-PL-P, P.O. Box 1715, Baltimore, Maryland 21203-1715, telephone (410) 962-2926. E-mail address: nancy.e.jedziniak@usace.army.mil.

SUPPLEMENTARY INFORMATION: A DEIS was in the process of being prepared by the Corps. During the National Environmental Policy Act (NEPA) process, it became apparent that the set of alternatives chosen as the final restoration plan did not produce any significant, long-term, or adverse impacts to the environment or its surroundings. Therefore, the DEIS process has been terminated. A draft ecosystem restoration report and draft EA have been prepared, and will be available for public review and comment in March 2000.

John A. Hall,
Alternative Army Federal Register Liaison Officer.

[FR Doc. 00-9692 Filed 4-17-00; 8:45 am]

BILLING CODE 3710-41-M